DEPARTMENT OF JUSTICE

Notice of Lodging of Consent Decree Under the Comprehensive Environmental Response, Compensation and Liability Act (CERCLA)

Under section 122(d)(2) of CERCLA, 42 U.S.C. 9622(d)(2), and 28 CFR 50.7, notice is hereby given that on September 14, 2001, a proposed Consent Decree in United States v. A-1 Auto Service, Inc., Civil Action No. 3:01CV1567(AHN), was lodged with the United States District Court for the District of Connecticut.

In this action, the United States sought recovery of over $1.6 million costs incurred by the United States Environmental Protection Agency in conducting a soil cleanup removal action at the National Oil Service Superfund Site in West Haven, Connecticut. The United States filed its complaint pursuant to section 107(a) of the Comprehensive Environmental Response, Compensation and Liability Act (“CERCLA”), 42 U.S.C. 9607(a), seeking recovery of over $1.6 million. The complaint named over 400 defendants which disposed of waste oil at the Site. The proposed Consent Decree resolves the United States' cost recovery claims against all of those defendants. Under the proposed Decree, the settling defendants collectively agree to pay over $810,000 in partial reimbursement of the United States' response costs. The proposed Consent Decree also contains a settlement with two federal agencies, the United States Coast Guard and the United States Postal Service. Under the proposed Consent Decree, these two settling federal agencies agree to pay a total of $988.56.

The Department of Justice will receive for a period of thirty (3) days from the date of this publication comments relating to the proposed Consent Decree. Comments should be addressed to the Acting Assistant Attorney General, Environment and Natural Resources Division, P.O. Box 7611, U.S. Department of Justice, Washington, DC 20044-7611, and should refer to United States v. A-1 Auto Service, Inc., D.J. Ref. 90-11-3-07333.

The proposed Consent Decree may be examined at the Office of the United States Attorney, Connecticut Financial Center, New Haven, CT, and at U.S. EPA Region 1, One Congress Street, Boston, MA.

A copy of the proposed Consent Decree may also be obtained by mail from the Consent Decree Library, P.O. Box 7611, U.S. Department of Justice, Washington, DC 20044-7611. For a copy of the proposed Consent Decree without the signature pages and attachments, please enclose a check in the amount of five dollars ($5.00) (25 cents per page reproduction cost) payable to the Consent Decree Library. For a copy of the Decree with all signature pages and attachments, please enclose a check in the amount of one hundred and twelve dollars and 25 cents ($112.25) payable to the Consent Decree Library.

Catherine R. McCabe,
Deputy Chief, Environmental Enforcement Section, Environment and Natural Resources Division.

[FR Doc. 01-24790 Filed 10-3-01; 8:45 am]

BILLING CODE 4410-15-M